DEPARTMENT OF ENERGY

Federal Energy Regulatory Commission

[Project No. 7194-030]

Birch Power Company and Sorenson Engineering; Birch Power Company and Sorenson Leasing L.L.C.; Notice of Application for Transfer of License, and Soliciting Comments and Motions To Intervene

August 17, 2010.

On July 12, 2010, Birch Power Company and Sorenson Engineering (transferors) and Birch Power Company and Sorenson Leasing, L.L.C. (transferees) filed an application for transfer of license for the Birch Creek Hydroelectric Project No. 7194, located on Birch Creek, in Clark County, Idaho.

Applicants seek Commission approval to transfer the license for the Birch Creek project from the transferors to the transferees.

Applicant Contact: For both: Mr. Ted S. Sorenson, President, Birch Power Company, Sorenson Engineering, and Sorenson Leasing L.L.C., 5203 South 11th East, Idaho Falls, Idaho 83404, phone (208) 589-6908.

FERC Contact: Patricia W. Gillis, (202) 502-8735.

Deadline for filing comments and motions to intervene: 30 days from the issuance date of this notice. Comments and motions to intervene may be filed electronically via the Internet. See 18 CFR 385.2001(a)(1)(iii) and the instructions on the Commission's Web site under http://www.ferc.gov/filing-comment.asp. If unable to be filed electronically, documents may be paper-filed. To paper-file, an original and seven copies may be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-7194) in the docket number field to access the document. For assistance, call toll-free 1-866-208-3372.

Kimberly D. Bose,
Secretary.

[FR Doc. 2010-20932 Filed 8-23-10; 8:45 am]

BILLING CODE 6717-01-P